DEPARTMENT OF LABOR

Office of the Secretary

Senior Executive Service; Appointment of Members to the Performance Review Board

AGENCY: Office of the Secretary.

ACTION: Appointment of Members of the Performance Review Board.

SUMMARY: Title 5 U.S.C. 4314(c)(4) provides that Notice of the Appointment of the individual to serve as a member of the Performance Review Board of the Senior Executive Service shall be published in the Federal Register.

FOR FURTHER INFORMATION CONTACT: Tania Burkley, Chief, Division of Executive Resources, Room C2318, U.S. Department of Labor, Frances Perkins Building, 200 Constitution Ave. NW, Washington, DC 20210, telephone: (202) 693-7638.

SUPPLEMENTARY INFORMATION: The following individuals are hereby appointed to serve on the Department's Performance Review Board:

Permanent Membership

Chair—Keith Sonderling, Deputy Secretary

Vice-Chair—Dean Heyl, Assistant Secretary for Administration and Management

Rotating Membership—Appointments Expire on 09/30/28

BLS Christopher Rosenlund, Assistant Commissioner for Regional Operations

ETA Lori Frazier-Bearden, Deputy Assistant Secretary

ILAB Ana Guevara, Deputy Undersecretary

MSHA Melanie Calhoun, Director of Technical Support

OSHA Eric Harbin, Regional Administrator, Dallas

SOL Steven Hough, Deputy Solicitor for Policy

SOL Emily Su, Deputy Solicitor, National Operations

WHD Patricia Davidson, Deputy Administrator

Authority: This notice was compiled in accordance to 5 CFR 430.311(a)(4).

Signed at Washington, DC.
Dean Heyl,
Assistant Secretary for Administration and Management.

[FR Doc. 2025-16052 Filed 8-21-25; 8:45 am]

BILLING CODE 4510-04-P